DEPARTMENT OF HEALTH AND HUMAN SERVICES

Office of the Secretary

Findings of Scientific Misconduct

Corrections

In notice document 06-5204 beginning on page 33308 in the issue of Thursday, June 8, 2006, make the following corrections:

1. On page 33309, in the first column, in the first full paragraph, in the second line, “Landon” should read “Leadon”.

2. On the same page, in the same column, in the second full paragraph, in the fourth line, “BRCAI” should read “BRCA1”.

3. On the same page, in the same column, in the same paragraph, in the fifth line, “Oxidation” should read “Oxidative”.

4. On the same page, in the same column, in the same paragraph, in the sixth line, “281:109-1012” should read “281: 1009-1012”.

5. On the same page, in the second column, in the first bulleted paragraph, in the third line, “S.g.” should read “S.G.”.

6. On the same page, in the same column, in the same paragraph, in the seventh line, “275: 9907ndash993, 1997” should read “275: 990-993, 1997”.

7. On the same page, in the same column, in the fourth bulleted paragraph, in the third line, “S.g.” should read “S.G.”.

[FR Doc. C6-5204 Filed 6-20-06; 8:45 am]

BILLING CODE 1505-01-D

SECURITIES AND EXCHANGE COMMISSION

17 CFR Part 200

[Release No. 34-53937; File No. S7-10-06]

RIN 3235-AJ56

Amendments to Plan of Organization and Operation Effective During Emergency Conditions

Correction

In rule document 06-5232 beginning on page 33384 in the issue of Friday, June 9, 2006, make the following correction:

§ 200.200 [Corrected]

On page 33386, in the third column, in § 200.200, in amendatory instruction b, in the first and second lines ““to read” “emergency conditions,”” should read ““a national emergency” to read “emergency conditions,””.

[FR Doc. C6-5232 Filed 6-20-06; 8:45 am]

BILLING CODE 1505-01-D